DEPARTMENT OF TRANSPORTATION

Federal Aviation Administration

Receipt of Noise Compatibility Program and Request for Review for the Phoenix Sky Harbor International Airport, Phoenix, AZ

AGENCY: Federal Aviation Administration (FAA), DOT.

ACTION: Notice.

SUMMARY: The FAA announces that it is reviewing a proposed Noise Compatibility Program submitted by the city of Phoenix for the Phoenix Sky Harbor International Airport, Phoenix, Arizona under the provisions of Title I of the Aviation Safety and Noise Abatement Act of 1979 (Public Law 96-193) (hereinafter referred to as “the Act”) and Title 14, Code of Federal Regulations (CFR), part 150. This program was submitted subsequent to a determination by the FAA that associated Noise Exposure Maps submitted under Title 14, CFR, part 150 were in compliance with applicable requirements effective October 10, 2000. The proposed Noise Compatibility Program will be approved or disapproved on or before September 7, 2001.

EFFECTIVE DATE: The effective date of the start of the FAA's review of the Noise Compatibility Program is March 12, 2001. The public comment period ends on May 10, 2001.

FOR FURTHER INFORMATION CONTACT: Brian Armstrong, Airport Planner, Airports Division, AWP-611.1, Federal Aviation Administration, Western-Pacific Region. Mailing Address: P.O. Box 92007, Los Angeles, CA 90009-2007; Street Address: 15000 Aviation Boulevard, Hawthorne, CA 90261; Telephone Number (310) 725-3614. Comments on the proposed Noise Compatibility Program should also be submitted to the above office.

SUPPLEMENTARY INFORMATION: This notice announces that the FAA is reviewing a proposed Noise Compatibility Program for the Phoenix Sky Harbor International Airport which will be approved or disapproved on or before September 7, 2001. This notice also announces the availability of this program for public review and comment.

An airport operator who has submitted Noise Exposure Maps that are found by the FAA to be in compliance with the requirements of Title 14, CFR, part 150, promulgated pursuant to Title I of the Act, may submit a Noise Compatibility Program for FAA approval which sets forth the measures the operator has taken or proposes for the reduction of existing noncompatible uses and for the prevention of the introduction of additional noncompatible uses.

The FAA has formally received the Noise Compatibility Program for the Phoenix Sky Harbor International Airport, effective on March 12, 2001. It is requested that the FAA review this material and that the noise mitigation measures, to be implemented jointly by the airport and surrounding communities, be approved as a Noise Compatibility Program under Section 104(b) of the Act. Preliminary review of the submitted material indicates that it conforms to the requirements for the submittal of Noise Compatibility Programs, but that further review will be necessary prior to approval or disapproval of the program. The formal review period, limited by law to a maximum of 180 days, will be completed on or before September 7, 2001.

The FAA's detailed evaluation will be conducted under the provisions of Title 14, CFR, part 150, section 150.33. The primary considerations in the evaluation process are whether the proposed measures reduce the level of aviation safety, create an undue burden on interstate or foreign commerce, or are reasonably consistent with obtaining the goal of reducing existing noncompatible land uses and preventing the introduction of additional noncompatible land uses.

Interested persons are invited to comment on the proposed program with specific reference to these factors. All comments, other than those properly addressed to local land use authorities, will be considered by the FAA to the extent practicable. Copies of the Noise Exposure Maps, the FAA's evaluation of the maps, and the proposed Noise Compatibility Program are available for examination at the following locations:

Federal Aviation Administration, National Headquarters, Community Environmental Needs Division, 800 Independence Avenue, SW., Room 621, Washington, DC 20591

Federal Aviation Administration, Western-Pacific Region, 15000 Aviation Boulevard, Room 3012, Hawthorne, CA 90261

City of Phoenix Aviation Department, 3400 Sky Harbor Blvd., Phoenix, Arizona 85034-4420

Questions may be directed to the individual named above under the heading FOR FURTHER INFORMATION CONTACT.

Issued in Hawthorne, California on March 12, 2001.
Herman C. Bliss,
Manager, Airports Division, Western-Pacific Region, AWP-600.

[FR Doc. 01-7056 Filed 3-21-01; 8:45 am]

BILLING CODE 4910-13-M